DEPARTMENT OF TRANSPORTATION

Surface Transportation Board

[STB Ex Parte No. 558 (Sub-No. 8)]

Railroad Cost-of-Capital—2004

AGENCY: Surface Transportation Board.

ACTION: Notice of decision.

SUMMARY: On June 30, 2005, the Board served a decision to update its computation of the railroad industry's cost-of-capital for 2004. The composite after-tax cost-of-capital rate for 2004 is found to be 10.1%, based on a current cost-of-debt of 5.25%; a cost of common equity capital of 13.16%; and a capital structure mix comprised of 38.5% debt and 61.5% common equity. The cost-of-capital finding made in this proceeding will be used in a variety of Board proceedings.

EFFECTIVE DATE: This action is effective June 30, 2005.

FOR FURTHER INFORMATION CONTACT: Leonard J. Blistein, 202-565-1529. (Federal Information Relay Service (FIRS) for the hearing impaired: 1-800-877-8339).

SUPPLEMENTARY INFORMATION: The cost-of-capital finding in this decision may be used for a variety of regulatory purposes. The Board's decision is posted on the Board's Web site, http://www.stb.dot.gov. In addition, copies of the decision may be purchased from ASAP Document Solutions by calling 202-306-4004 (assistance for the hearing impaired is available through FIRS at 1-800-877-8339), or by e-mail at asapdc@verizon.net.

Environmental and Energy Considerations

This action will not significantly affect either the quality of the human environment or the conservation of energy resources.

Regulatory Flexibility Analysis

Pursuant to 5 U.S.C. 605(b), we conclude that our action in this proceeding will not have a significant economic impact on a substantial number of small entities. The purpose and effect of this action are to update the annual railroad industry cost-of-capital finding by the Board. No new reporting or other regulatory requirements are imposed, directly or indirectly, on small entities.

Authority: 49 U.S.C. 10704(a).

Decided: June 21, 2005.
By the Board, Chairman Nober, Vice Chairman Buttrey, and Commissioner Mulvey.
Vernon A. Williams,
Secretary.

[FR Doc. 05-12900 Filed 6-29-05; 8:45 am]

BILLING CODE 4915-01-P